DEPARTMENT OF TRANSPORTATION

Federal Aviation Administration

14 CFR Part 71

[Docket No. FAA-2010-0616; Airspace Docket No. 10-ANM-6]

Modification of Class E Airspace; Pendleton, OR

AGENCY: Federal Aviation Administration (FAA), DOT.

ACTION: Final rule.

SUMMARY: This action will amend Class E airspace at Pendleton, OR. Decommissioning of the Foris Non-Directional Radio Beacon (NDB) at Eastern Oregon Regional Airport at Pendleton has made this necessary for the safety and management of Instrument Flight Rules (IFR) operations at the airport. This action also reflects the new name of the airport.

DATES: Effective date, 0901 UTC, January 13, 2011. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

On July 20, 2010, the FAA published in the Federal Register a notice of proposed rulemaking to amend controlled airspace at Pendleton, OR (75 FR 42012). Interested parties were invited to participate in this rulemaking effort by submitting written comments on the proposal to the FAA. No comments were received.

Class E airspace designations are published in paragraph 6005 of FAA Order 7400.9U dated August 18, 2010, and effective September 15, 2010, which is incorporated by reference in 14 CFR Part 71.1. The Class E airspace designations listed in this document will be published subsequently in that Order.

The Rule

This action amends Title 14 Code of Federal Regulations (14 CFR) Part 71 by amending Class E airspace, extending upward from 700 feet above the surface, at Eastern Oregon Regional Airport at Pendleton, Pendleton OR. Decommissioning of the Foris NDB at Eastern Oregon Regional Airport at Pendleton has made this action necessary for the safety and management of IFR operations at the airport. This action will also change the name of the airport from Pendleton Municipal Airport to Eastern Oregon Regional Airport at Pendleton.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Eastern Oregon Regional Airport at Pendleton, Pendleton, OR.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E. O. 10854, 24 FR 9565, 3 CFR, 1959-1963 Comp., p. 389.

§ 71.1 [Amended]

2. The incorporation by reference in 14 CFR Part 71.1 of the Federal Aviation Administration Order 7400.9U, Airspace Designations and Reporting Points, dated August 18, 2010, and effective September 15, 2010 is amended as follows:

Paragraph 6005 Class E airspace areas extending upward from 700 feet or more above the surface of the earth.

* * * * *

ANM OR E5 Pendleton, OR [Modified]

Eastern Oregon Regional Airport at Pendleton, OR

(Lat. 45°41′42″ N., long. 118°50′29″ W.)

Pendleton VORTAC

(Lat. 45°41'54″ N., long. 118°56'19″ W.)

Hermiston, Hermiston Municipal Airport

(Lat. 45°49'42″ N., long. 119°15'33″ W.)

That airspace extending upward from 700 feet above the surface within a 10.5-mile radius of lat. 45°41′30″ N., long. 118°47′24″ W., and within 4 miles each side of the Pendleton VORTAC 254° radial extending from the 10.5-mile radius to 10.9 miles west of the VORTAC, and within 8.3 miles north and 4.3 miles south of the 090° bearing from the Eastern Oregon Regional Airport at Pendleton extending from the 10.5-mile radius to 20.7 miles east of the Eastern Oregon Regional Airport at Pendleton, and within a 4.3-mile radius of the Hermiston Municipal Airport, and within 2.2 miles each side of the Pendleton VORTAC 300° radial extending from the 4.3-mile radius to the Pendleton VORTAC; that airspace extending upward from 1,200 feet above the surface within 9.6 miles northeast and 6.1 miles southwest of the Pendleton VORTAC 137° radial extending from the 10.5-mile radius to 43.5 miles southeast of the VORTAC, and within 8.7 miles south and 6.1 miles north of the Pendleton 254° radial extending from the 10.5-mile radius to 28.8 miles west of the VORTAC, and within 8.3 miles north and 4.3 miles south of the Pendleton 273° radial extending from the 10.5-mile radius to 16.1 miles west of the VORTAC, and within 5.3 miles southwest and 7.9 miles northeast of the Pendleton 310° radial extending from the 10.5-mile radius to 26.1 miles northwest of the VORTAC, and within 4.3 miles northwest of the 025° radial and 4.3 miles southeast of the 049° radial extending from the 10.5-mile radius to the 30.5-mile radius of the Pendleton VORTAC, and that airspace within the 27.9-mile radius of the Pendleton VORTAC extending clockwise from the southeast edge of V-536 to the northeast edge of V-298.

Issued in Seattle, Washington, on September 23, 2010.
Lori Andriesen,
Acting Manager, Operations Support Group, Western Service Center.

[FR Doc. 2010-24792 Filed 10-5-10; 8:45 am]

BILLING CODE 4910-13-P